DEPARMENT OF ENERGY

Federal Energy Regulatory Commission

[Docket No. EC01-73-000, et al.]

Nevada Power Company, et al.; Electric Rate and Corporate Regulation Filings

March 1, 2001.

Take notice that the following filings have been made with the Commission:

1. Nevada Power Company and Reliant Energy Sunrise, LLC

[Docket No. EC01-73-000]

Take notice that on February 23, 2001, Nevada Power Company (Nevada Power) and Reliant Energy Sunrise, LLC (Reliant), filed with the Federal Energy Regulatory Commission an application pursuant to section 203 of the Federal Power Act and Part 33 of the Commission's Regulations for authorization of a disposition of jurisdictional facilities associated with Nevada Power's sale to Reliant of its interests in the 359 MW Sunrise Station. The Applicants state that they request confidential treatment of certain data used in the analysis of the effect of the transaction on competition, as well as the Asset Sales Agreement, and have submitted a proposed Protective Order governing such data.

Comment date: April 24, 2001, in accordance with Standard Paragraph E at the end of this notice.

2. Coastal Merchant Energy, L.P.

[Docket No. ER01-198-001]

Take notice that on February 26, 2001, Coastal Merchant Energy, L.P. submitted a compliance filing as part of its Notice of Succession, which initially was filed on October 23, 2000, pursuant to 18 CFR 35.16 and 131.15 of the Commission's regulations. The compliance filing provides revised rate schedules, required to be submitted under Order No. 614, Docket No. RM99-12-000, issued March 31, 2000.

Comment date: March 19, 2001, in accordance with Standard Paragraph E at the end of this notice.

3. Mesquite Power, LLC

[Docket No. EG01-105-000]

Take notice that January 24, 2001, Mesquite Power, LLC, a Delaware limited liability company, with its principal office located at 101 Ash Street, San Diego, California 92101, filed with the Federal Energy Regulatory Commission (Commission) an Application for Determination of Exempt Wholesale Generator Status pursuant to Part 365 of the Commission's regulations. Applicant will operate a combined-cycle, natural gas-fired electric generating plant and related facilities with the nominal generating capacity of 1,000 MW (the Facility). The Facility will be located in Maricopa County, Arizona, approximately 35 miles west of the Phoenix metropolitan area. The Facility has not yet been constructed, but one 500 MW power block is projected to commence commercial operations in June 2003 with the other 500 MW power block expected to commence commercial operations in January 2004. Upon the completion and commencement of commercial operation of each power block in the Facility, Applicant will be engaged directly and exclusively in the business of operating an “eligible facility” and selling electric energy at wholesale. The Facility constitutes an “eligible facility” under Section 32(a)(2) of PUHCA because it will be used for the generation of electric energy exclusively for sale at wholesale.

Comment date: March 15, 2001, in accordance with Standard Paragraph E at the end of this notice.

4. San Diego Gas & Electric Company, Complainant, v. Sellers of Energy and Ancillary Services into Markets Operated by the California Independent System Operator and the California Power Exchange, Respondents. Investigation of Practices of the California Independent System Operator and the California Power Exchange

[Docket No. EL00-95-015; Docket No. EL00-98-014]

Take notice that on February 26, 2001, California Power Exchange Corporation made a filing to comply with the Commission's January 29, 2001 order in this proceeding, 94 FERC ¶ 61,085.

Comment date: March 16, 2001, in accordance with Standard Paragraph E at the end of this notice.

5. Sithe Edgar LLC, Sithe New Boston LLC, Sithe Framingham LLC, Sithe West Medway LLC, Sithe Wyman LLC, Sithe Mystic LLC, AG-Energy, L.P., Power City Partners, L.P., Seneca Power Partners, L.P., Sterling Power Partners, L.P., Sithe Power Marketing, L.P., Sithe Power Marketing, Inc.

[Docket No. ER01-513-001]

Take notice that on February 26, 2001, Sithe Edgar LLC, Sithe New Boston LLC, Sithe Framingham LLC, Sithe West Medway LLC, Sithe Wyman LLC, Sithe Mystic LLC, AG-Energy, L.P., Power City Partners, L.P., Seneca Power Partners, L.P., Sterling Power Partners, L.P., Sithe Power Marketing, L.P. and Sithe Power Marketing, Inc. (together, the Sithe Jurisdictional Affiliates) tendered for filing proposed rate schedule designations in compliance with Order No. 614, for the Sithe Jurisdictional Affiliates' FERC Electric Rate Schedules Nos. 1 and 2, which were accepted for filing by the Commission in an Order issued in this proceeding on January 24, 2001.

Comment date: March 19, 2001, in accordance with Standard Paragraph E at the end of this notice.

6. Southern Company Services, Inc.

[Docket No. ER01-602-002]

Take notice that on February 26, 2001, Southern Company Services, Inc., as agent for Alabama Power Company, Georgia Power Company, Gulf Power Company, Mississippi Power Company and Savannah Electric and Power Company (collectively, Southern Companies), tendered for filing rate schedule sheets compliant with Commission Order No. 614 for Southern Operating Companies Rate Schedules FERC Nos. 66, 67, and 68 pursuant to the letter order in Docket No. ER01-602, dated January 24, 2001. The three Order No. 614 compliant rate schedules tendered for filing concern 1988 Unit Power Sales agreements between Southern Companies and Florida Power Corporation, Florida Power & Light, and Jacksonville Electric Authority.

Comment date: March 19, 2001, in accordance with Standard Paragraph E at the end of this notice.

7. PacifiCorp

[Docket No. ER01-798-001]

Take notice that on February 26, 2001, PacifiCorp tendered for filing in accordance with 18 CFR 35 of the Commission's Rules and Regulations, an amendment to its filing to revise Schedules 4, 7 and 8 as well as Attachment 7 to its open access transmission tariff, PacifiCorp's FERC Electric Tariff, Second Revised Volume No. 11 (Tariff). The revisions modify the procedures used in the handling of energy imbalances and transmission losses under the Tariff.

PacifiCorp has requested an effective date of January 1, 2001.

Copies of this filing were supplied to the Washington Utilities and Transportation Commission and the Public Utility Commission of Oregon.

Comment date: March 19, 2001, in accordance with Standard Paragraph E at the end of this notice.

8. Wisconsin Electric Power Company

[Docket No. ER01-855-001]

Take notice that on February 26, 2001, Wisconsin Electric Power Company (Wisconsin Electric) resubmitted for filing a Coordinated Operating Agreement, designated as Rate Schedule Number 101, between Wisconsin Electric and Consumers Energy Company.

Comment date: March 19, 2001, in accordance with Standard Paragraph E at the end of this notice.

9. Cinergy Services, Inc.

[Docket No. ER01-1321-000]

Take notice that on February 26, 2001, Cinergy Services, Inc. (Provider) tendered for filing a Firm Point-To-Point Service Agreement under Cinergy's Open Access Transmission Service Tariff (OATT) entered into between Provider and Cinergy Services, Inc. (Customer) (AREF#69542023).

This service agreement has a yearly firm transmission service with Louisville Operating Companies via the Gibson Unit Nos. 1—5 Generating Station.

Provider and Customer are requesting an effective date of March 1, 2001.

Comment date: March 1, 2001, in accordance with Standard Paragraph E at the end of this notice.

10. Wisconsin Electric Power Company

[Docket No. ER01-1322-000]

Take notice that on February 26, 2001, Wisconsin Electric Power Company (Wisconsin Electric) tendered for filing a Notice of Cancellation effective January 1, 2001 of an Interchange Agreement, as amended, designated as Rate Schedule FERC No. 68 on September 30, 1992, between Wisconsin Electric and Madison Gas and Electric Company.

Comment date: March 19, 2001, in accordance with Standard Paragraph E at the end of this notice.

11. Deseret Generation & Transmission Co-operative, Inc.

[Docket No. ER01-1323-000]

Take notice that on February 26, 2001, Deseret Generation & Transmission Co-operative, Inc. (Desert), tendered for filing with the Federal Energy Regulatory Commission (FERC) notices of cancellation of Service Agreement Nos. 21 and 23 to Deseret Generation & Transmission Co-operative, Inc., FERC Electric Tariff, Original Volume No. 2.

Deseret requests an effective date of February 26, 2001.

Comment date: March 19, 2001, in accordance with Standard Paragraph E at the end of this notice.

12. Cinergy Services, Inc.

[Docket No. ER01-1324-000]

Take notice that on February 22, 2001, Cinergy Services, Inc. (Provider) tendered for filing a Firm Point-To-Point Service Agreement under Cinergy's Open Access Transmission Service Tariff (OATT) entered into between Provider and Cinergy Services, Inc. (Customer) (AREF#69543598).

This service agreement has a yearly firm transmission service with American Electric Power via the Gibson Unit Nos. 1—5 Generating Station.

Provider and Customer are requesting an effective date of March 1, 2001.

Comment date: March 19, 2001, in accordance with Standard Paragraph E at the end of this notice.

13. PacifiCorp

[Docket No. ER01-1325-000]

Take notice that on February 26, 2001, PacifiCorp, tendered for filing in accordance with 18 CFR Part 35 of the Commission's Rules and Regulations, a Long-Term Firm Transmission Service Agreement with Powerex Corporation (Powerex) under PacifiCorp's FERC Electric Tariff, Second Revised Volume No. 11 (Tariff).

Copies of this filing were supplied to the Washington Utilities and Transportation Commission and the Public Utility Commission of Oregon.

Comment date: March 19, 2001, in accordance with Standard Paragraph E at the end of this notice.

14. American Electric Power Service Corporation

[Docket No. ER01-1327-000]

Take notice that on February 26, 2001, the American Electric Power Service Corporation (AEPSC) tendered for filing replacement blanket Service Agreements for existing customers under customers under the AEP Companies' Power Sales Tariffs. The Power Sales Tariffs were accepted for filing by the Commission as FERC Electric Tariff Original Volume No. 5, Effective October 10, 1997 in Docket Number ER 97-4143-00 and FERC Electric Tariff Original Volume No. 8, Effective January 8, 1998 in Docket Number ER 98-542-000.

AEPSC respectfully requests waiver of notice to permit the Service Agreements to be made effective to be effective on or prior to February 1, 2001.

A copy of the filing was served upon the Parties and the State Utility Regulatory Commissions of Arkansas, Indiana, Kentucky, Louisiana, Michigan, Ohio, Oklahoma, Tennessee, Texas, Virginia and West Virginia.

Comment date: March 19, 2001, in accordance with Standard Paragraph E at the end of this notice.

15. American Electric Power Service Corporation

[Docket No. ER01-1328-000]

Take notice that on February 26, 2001, the American Electric Power Service Corporation (AEPSC) tendered for filing a Request for Power (RFP) and associated Power Supply Agreement (Supply Agreement) for a firm power sale exceeding one year in length between AEPSC and Public Utility District No. 1 of Snohomish County (Snohomish) under the terms and conditions of the RFP, Supply Agreement, the Western System Power Pool (WSPP) Agreement effective July 1, 2000 in Docket ER99-541-000 as amended and AEPSC's Power Sales Tariff. The Power Sales Tariff was accepted for filing effective October 10, 1997, and has been designated AEP Companies' FERC Electric Tariff Original Volume No. 5 in Docket ER97-4143-000.

AEPSC respectfully requests waiver of notice to permit the RFP and Supply Agreement to be made effective on or prior to February 1, 2001.

A copy of the filing was served upon the Parties and the State Utility Regulatory Commissions of Arkansas, Indiana, Kentucky, Louisiana, Michigan, Ohio, Oklahoma, Tennessee, Texas, Virginia and West Virginia.

Comment date: March 19, 2001, in accordance with Standard Paragraph E at the end of this notice.

16. Idaho Power Company IDACORP Energy Solutions, LP

[Docket No. ER01-1329-000]

Take notice that on February 26, 2001, Idaho Power Company (IPCO) and IDACORP Energy Solutions, LP (IES) filed the Agreement for Electricity Supply Management Services between Idaho Power Company and IDACORP Energy Solutions, LP. In addition, IES filed a Market Rate Power Sale Tariff and IPCO filed an amendment to its Market Rate Power Sale Tariff.

Comment date: March 19, 2001, in accordance with Standard Paragraph E at the end of this notice.

17. El Paso Merchant Energy, L.P.

[Docket No. ER01-1330-000]

Take notice that on February 26, 2001, El Paso Merchant Energy, L.P. submitted a Notice of Succession pursuant to 18 CFR 35.16 and 131.15 of the Commission's regulations. El Paso Merchant Energy, L.P. is succeeding to the Rate Schedule FERC No. 1 filed by Coastal Merchant Energy, L.P. in Docket No. ER01-198-001. This rate schedule should now be designated as El Paso Merchant Energy, L.P., Original Rate Schedule No. 2, effective February 1, 2001.

Comment date: March 19, 2001, in accordance with Standard Paragraph E at the end of this notice.

18. Xcel Energy Operating Companies, Northern States Power Company

[Docket No. ER01-1332-000]

Take notice that on February 26, 2001, Northern States Power Company (NSP), a wholly-owned utility operating company subsidiary of Xcel Energy Inc., tendered for filing (a) a letter agreement to extend the Distribution Facilities Agreement between NSP and the City of Shakopee, Minnesota (City), and (b) a letter agreement to extend a previously approved interim rate for the period January 1, 2001, through December 31, 2001

NSP requests the letter agreements be accepted for filing effective January 1, 2001, and requests waiver of the Commission's notice requirements in order for the Agreements to be accepted for filing on the date requested.

Comment date: March 19, 2001, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

Linwood A. Watson, Jr.,
Acting Secretary.

[FR Doc. 01-5636 Filed 3-7-01; 8:45 am]

BILLING CODE 6717-01-P